DEPARTMENT OF LABOR

Employment and Training Administration

[NAFTA-7608]

Arkansas Metal Castings, Inc., Ft. Smith, Arkansas; Notice of Termination of Investigation

Pursuant to Title V of the North American Free Trade Agreement Implementation Act (Pub. L. 103-182) concerning transitional adjustment assistance, hereinafter called NAFTA-TAA and in accordance with section 250(a), Subchapter D, Chapter 2, Title II, of the Trade Act of 1974, as amended (19 U.S.C. 2331), an investigation was initiated on October 8, 2002, in response to a petition which was filed by a company official on behalf of workers at Arkansas Metal Castings, Inc., Ft. Smith, Arkansas.

The petitioner has requested that the petition be withdrawn. Consequently, further investigation in this case would serve no purpose, and the investigation has been terminated.

Signed in Washington, DC this 20th day of December, 2002.
Linda G. Poole,
Certifying Officer, Division of Trade Adjustment Assistance.

[FR Doc. 03-410 Filed 1-8-03; 8:45 am]

BILLING CODE 4510-30-P